DEPARTMENT OF JUSTICE

Notice of Proposed Settlement Agreement Under the Oil Pollution Act

Notice is hereby given that the United States of America, on behalf of the Department of the Interior (“DOI”) acting through the U.S. Fish and Wildlife Service, the State of Oregon represented by Oregon Department of Fish and Wildlife (“ODFW”), and the Confederated Tribes of the Siletz Indians (“Tribes”), (DOI, ODFW and Tribes collectively, the “Trustees”), are providing an opportunity for public comment on a proposed Settlement Agreement (“Settlement Agreement”) among the Trustees and Blue Line Transportation Company, Inc. (“Blue Line”) .

The settlement resolves the civil claims of the Trustees against Blue Line arising by virtue of their natural resource trustee authority under the Oil Pollution Act of 1990, 33 U.S.C. 2702 for injury to, impairment of, destruction of, and loss of, diminution of value of and/or loss of use of natural resources resulting from the January 27, 2001 discharge of approximately 5,800 gallons of No. 6 fuel oil from a fuel tanker, owned by Blue Line, on U.S. Highway 20, near Toledo, Oregon. Under the proposed Settlement Agreement, Blue Line agrees to pay $175,000 to the DOI Natural Resource Damage Assessment and Restoration Fund, $25,000 to compensate for past assessment costs and $150,000 will be used for restoration activities to compensate the public for recreational and aquatic injuries. Blue Line will receive from the Trustees a covenant not to sue for the claims resolved by the settlement.

The publication of this notice opens a period for public comment on the proposed Settlement Agreement. Comments on the proposed Settlement Agreement should be addressed to the Assistant Attorney General, Environment and Natural Resources Division and should refer to the CP Settlement Agreement, DJ No. 90-5-1-1-12115. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Settlement Agreement may be examined and downloaded at this Justice Department website: https://www.justice.gov/enrd/consent-decrees. We will provide a paper copy of the proposed Settlement Agreement upon written request and payment of reproduction costs. Please mail your request and payment to: Consent Decree Library, U.S. DOJ—ENRD, P.O. Box 7611, Washington, DC 20044-7611.

Please enclose a check or money order for $2.50 (25 cents per page reproduction cost) payable to the United States Treasury.

Susan M. Akers,
Assistant Section Chief, Environmental Enforcement Section, Environment and Natural Resources Division.

[FR Doc. 2022-04960 Filed 3-8-22; 8:45 am]

BILLING CODE 4410-15-P